ENVIRONMENTAL PROTECTION AGENCY

40 CFR Part 52

[EPA-R08-OAR-2014-0309; FRL-9945-65-Region 8]

Air Plan Approval; UT; Revised Format for Material Incorporated by Reference

AGENCY: Environmental Protection Agency (EPA).

ACTION: Final rule; administrative change.

SUMMARY: The Environmental Protection Agency (EPA) is revising the format of materials submitted by the State of Utah that are incorporated by reference (IBR) into its State Implementation Plan (SIP). The regulations affected by this format change have all been previously submitted by Utah and approved by the EPA.

DATES: This action is effective June 16, 2016.

ADDRESSES: The EPA has established a docket for this action under Docket Identification Number EPA-R08-OAR-2014-0309. All documents in the docket are listed on the http://www.regulations.gov Web site. Although listed in the index, some information may not be publicly available, i.e., Confidential Business Information or other information the disclosure of which is restricted by statute. Certain other material, such as copyrighted material, is not placed on the Internet and will be publicly available only in the hard copy form. Publicly available docket materials are available either electronically through http://www.regulations.gov or in hard copy at EPA Region 8, Office of Partnerships and Regulatory Assistance, Air Program, 1595 Wynkoop Street, Denver, Colorado 80202-1129. The EPA requests that you contact the individual listed in the FOR FURTHER INFORMATION CONTACT section to view the hard copy of the docket. An electronic copy of the State's SIP compilation is also available at https://www.epa.gov/approved-sips.

FOR FURTHER INFORMATION CONTACT: Jaslyn Dobrahner, Air Program, U.S. Environmental Protection Agency (EPA), Region 8, Mailcode 8P-AR, 1595 Wynkoop Street, Denver, Utah 80202-1129, (303) 312-6252, dobrahner.jaslyn@epa.gov.

SUPPLEMENTARY INFORMATION:

I. Change in IBR Format

This format revision will affect the “Identification of plan” section of 40 CFR part 52, as well as the format of the SIP materials that will be available for public inspection at the National Archives and Records Administration (NARA) and the EPA Region 8 Office.

A. Description of a SIP

Each state has a SIP containing the control measures and strategies used to attain and maintain the national ambient air quality standards (NAAQS) and achieve certain other Clean Air Act (Act) requirements (e.g., visibility requirements, prevention of significant deterioration). The SIP is extensive, containing such elements as air pollution control regulations, emission inventories, monitoring network descriptions, attainment demonstrations, and enforcement mechanisms.

B. How EPA Enforces the SIP

Each SIP revision submitted by Utah must be adopted at the state level after undergoing reasonable notice and public hearing. SIPs submitted to EPA to attain or maintain the NAAQS must include enforceable emission limitations and other control measures, schedules and timetables for compliance.

EPA evaluates submitted SIPs to determine if they meet the Act's requirements. If a SIP meets the Act's requirements, EPA will approve the SIP. EPA's notice of approval is published in the Federal Register and the approval is then codified at 40 CFR part 52. Once EPA approves a SIP, it is enforceable by EPA and citizens in federal district court.

We do not reproduce in 40 CFR part 52 the full text of the Utah regulations that we have approved. Instead, we incorporate them by reference or IBR. We approve a given state regulation with a specific effective date and then refer the public to the location(s) of the full text version of the state regulation(s) should they want to know which measures are contained in a given SIP (see I.F., Where You Can Find a Copy of the SIP Compilation).

C. How the State and EPA update the SIP

The SIP is a dynamic document which the state can revise as necessary to address the unique air pollution problems in the state. Therefore, EPA from time to time must take action on SIP revisions containing new and/or revised regulations.

On May 22, 1997 (62 FR 27968), EPA announced revised procedures for IBR of federally approved SIPs. The procedures announced included: (1) A new process for IBR of material submitted by states into compilations and a process for updating those compilations on roughly an annual basis; (2) a revised mechanism for announcing EPA approval of revisions to an applicable SIP and updating both the compilations and the CFR; and (3) a revised format for the “Identification of plan” sections for each applicable subpart to reflect these revised IBR procedures.

D. How EPA Compiles the SIP

We have organized into a compilation the federally-approved regulations, source-specific requirements and nonregulatory provisions we have approved into the SIP. These compilations may be found at https://www.epa.gov/approved-sips. In addition, we maintain hard copies of the compilation which are updated periodically.

E. How EPA Organizes the SIP Compilation

Each compilation contains three parts. Part one contains the state regulations that have been approved, part two contains the source-specific requirements that have been approved as part of the SIP (if any), and part three contains non-regulatory provisions that have been approved. Each compilation contains a table of identifying information for each regulation, each source-specific requirement, and each nonregulatory provision. The state effective dates in the tables indicate the date of the most recent revision to a particular approved regulation. The table of identifying information in the compilation corresponds to the table of contents published in 40 CFR part 52 for the state. The EPA Regional Offices have the primary responsibility for ensuring accuracy and updating the compilations.

F. Where You Can Find a Copy of the SIP Compilation

EPA Region 8 developed and will maintain the compilation for Utah. An electronic copy of the compilation is contained at https://www.epa.gov/approved-sips. SIP materials which are incorporated by reference into 40 CFR part 52 are also available for inspection at the following locations: National Archives and Records Administration (NARA). For information on the availability of this material at NARA, call (202) 741-6030, or go to: http://www.archives.gov/federal-register/cfr/ibr-locations.html, and the EPA Region 8 Office, 1595 Wynkoop Street, Denver, Colorado 80202.

G. The Format of the New Identification of Plan Section

In order to better serve the public, EPA has revised the organization of the “Identification of plan” section in 40 CFR part 52 and included additional information to clarify the elements of the SIP.

The revised Identification of plan section for Utah contains five subsections:

1. Purpose and scope (see 40 CFR 52.2320(a));

2. Incorporation by reference (see 40 CFR 52.2320(b));

3. EPA-approved regulations (see 40 CFR 52.2320(c));

4. EPA-approved source-specific requirements (see 40 CFR 52.2320(d)); and

5. EPA-approved nonregulatory provisions such as transportation control measures, statutory provisions, control strategies, monitoring networks, etc. (see 40 CFR 52.2320(e)).

H. When a SIP Revision Becomes Federally Enforceable

All revisions to the applicable SIP are federally enforceable as of the effective date of EPA's approval of the respective revision. In general, SIP revisions become effective 30 to 60 days after publication of EPA's SIP approval action in the Federal Register. In specific cases, a SIP revision action may become effective less than 30 days or greater than 60 days after the Federal Register publication date. In order to determine the effective date of EPA's approval for a specific Utah SIP provision that is listed in 40 CFR 52.2320 (c), (d), or (e), consult the volume and page of the Federal Register cited in 40 CFR 52.2320 for that particular provision.

I. The Historical Record of SIP Revision Approvals

To facilitate enforcement of previously approved SIP provisions and to provide a smooth transition to the new SIP processing system, we are retaining the original Identification of plan section (40 CFR 52.2324). This section previously appeared at 40 CFR 52.2320. After an initial two-year period, we will review our experience with the new table format and will decide whether to retain the original identification of plan section (40 CFR 52.2324) for some further period.

II. What EPA is doing in this action?

This action constitutes a “housekeeping” exercise to reformat the codification of the EPA-approved Utah SIP.

III. Good Cause Exemption

EPA has determined that this action falls under the “good cause” exemption in section 553(b)(3)(B) of the Administrative Procedure Act (APA) which, upon a finding of “good cause” authorizes agencies to dispense with public participation, and section 553(d)(3), which allows an agency to make a rule effective immediately (thereby avoiding the 30-day delayed effective date otherwise provided for in the APA). This action simply reformats the codification of provisions which are already in effect as a matter of law.

Under section 553 of the APA, an agency may find good cause where procedures are “impractical, unnecessary, or contrary to the public interest.” Public comment is “unnecessary” and “contrary to the public interest” since the codification only reflects existing law. Likewise, there is no purpose served by delaying the effective date of this action.

IV. Incorporation by Reference

In this rule, EPA is finalizing regulatory text that includes incorporation by reference. In accordance with requirements of 1 CFR 51.5, EPA is finalizing the incorporation by reference of the Utah regulations described in the amendments to 40 CFR part 52 set forth below. EPA has made, and will continue to make, these documents generally available electronically through www.regulations.gov and/or in hard copy at the appropriate EPA office (see the ADDRESSES section of this preamble for more information).

V. Statutory and Executive Order Reviews

A. General Requirements

Under Executive Order 12866 (58 FR 51735, October 4, 1993), this action is not a “significant regulatory action” and is therefore not subject to review by the Office of Management and Budget. This rule is not subject to Executive Order 13211, “Actions Concerning Regulations That Significantly Affect Energy Supply, Distribution, or Use” (66 FR 28355, May 22, 2001) because it is not a significant regulatory action under Executive Order 12866. Because the agency has made a “good cause” finding that this action is not subject to notice-and-comment requirements under the Administrative Procedure Act or any other statute as indicated in the SUPPLEMENTARY INFORMATION section, it is not subject to the regulatory flexibility provisions of the Regulatory Flexibility Act (5 U.S.C. 601 et seq.), or to sections 202 and 205 of the Unfunded Mandates Reform Act of 1995 (UMRA) (Pub. L. 104-4). In addition, this action does not significantly or uniquely affect small governments or impose a significant intergovernmental mandate, as described in sections 203 and 204 of UMRA. This rule also does not have a substantial direct effect on one or more Indian tribes, on the relationship between the federal government and Indian tribes, or on the distribution of power and responsibilities between the federal government and Indian tribes, as specified by Executive Order 13175 (65 FR 67249, November 9, 2000), nor will it have substantial direct effects on the states, on the relationship between the national government and the states, or on the distribution of power and responsibilities among the various levels of government, as specified in Executive Order 13132 (64 FR 43255, August 10, 1999). This rule also is not subject to Executive Order 13045 (62 FR 19885, April 23, 1997), because it is not economically significant. This rule does not involve technical standards; thus the requirements of section 12(d) of the National Technology Transfer and Advancement Act of 1995 (15 U.S.C. 272 note) do not apply. The rule also does not involve special consideration of environmental justice related issues as required by Executive Order 12898 (59 FR 7629, February 16, 1994). This rule does not impose an information collection burden under the Paperwork Reduction Act of 1995 (44 U.S.C. 3501 et seq.). EPA's compliance with these statutes and Executive Orders for the underlying rules are discussed in previous actions taken on the state's rules.

B. Submission to Congress and the Comptroller General

The Congressional Review Act (5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. This action simply codifies provisions which are already in effect as a matter of law in federal and approved state programs. 5 U.S.C. 808(2). As stated previously, EPA has made such a good cause finding and established an effective date of June 16, 2016. EPA will submit a report containing this rule and other required information to the U.S. Senate, the U.S. House of Representatives, and the Comptroller General of the United States prior to publication of the rule in the Federal Register. This change to the identification of plan for Utah is not a “major rule” as defined by 5 U.S.C. 804(2).

C. Petitions for Judicial Review

EPA has also determined that the provisions of section 307(b)(1) of the Clean Air Act pertaining to petitions for judicial review are not applicable to this action. Prior EPA rulemaking actions for each individual component of the Utah SIP compilation had previously afforded interested parties the opportunity to file a petition for judicial review in the United States Court of Appeals for the appropriate circuit within 60 days of such rulemaking action. Thus, EPA sees no need in this action to reopen the 60-day period for filing such petitions for judicial review for this “Identification of plan” reorganization action for Utah.

List of Subjects in 40 CFR Part 52

Environmental protection, Air pollution control, Carbon monoxide, Greenhouse gases, Incorporation by reference, Intergovernmental relations, Lead, Nitrogen dioxide, Ozone, Particulate matter, Reporting and recordkeeping requirements, Sulfur oxides, Volatile organic compounds.

Dated: May 31, 2016.
Debra H. Thomas,
Acting Regional Administrator, Region 8.

40 CFR part 52 is amended to read as follows:

PART 52—APPROVAL AND PROMULGATION OF IMPLEMENTATION PLANS

1. The authority citation for part 52 continues to read as follows:

Authority: 42 U.S.C. 7401 et seq.

Subpart TT—Utah

§ 52.2320 [Redesignated as § 52.2324]

2. Section 52.2320 is redesignated as § 52.2324, and in newly redesignated § 52.2320, revise the section heading and paragraph (a) to read as follows:

§ 52.2324 Original identification of plan.

(a) This section identifies the original “Air Implementation Plan for the State of Utah” and all revisions submitted by Utah that were federally approved prior to March 1, 2016.

* * * * *

3. Add § 52.2320 to read as follows:

§ 52.2320 Identification of plan.

(a) Purpose and scope. This section sets forth the applicable State Implementation Plan for Utah under section 110 of the Clean Air Act, 42 U.S.C. 7410 and 40 CFR part 51 to meet national ambient air quality standards or other requirements under the Clean Air Act.

(b) Incorporation by reference. (1) Material listed in paragraphs (c) and (d) of this section with an EPA approval date prior to March 1, 2016, was approved for incorporation by reference by the Director of the Federal Register in accordance with 5 U.S.C. 552(a) and 1 CFR part 51. Material is incorporated as submitted by the state to EPA, and notice of any change in the material will be published in the Federal Register. Entries for paragraphs (c) and (d) of this section with EPA approval dates after March 1, 2016, will be incorporated by reference in the next update to the SIP compilation.

(2) EPA Region 8 certifies that the rules/regulations provided by EPA in the SIP compilation at the addresses in paragraph (b)(3) of this section are an exact duplicate of the officially promulgated state rules/regulations which have been approved as part of the State Implementation Plan as of March 1, 2016.

(3) Copies of the materials incorporated by reference may be inspected at the Environmental Protection Agency, Region 8, 1595 Wynkoop Street, Denver, Colorado 80202-1129; and the National Archives and Records Administration (NARA). For information on the availability of this material at NARA, call (202) 741-6030, or go to http://www.archives.gov/federal-register/cfr/ibr-locations.html.

(c) EPA-approved regulations.

Rule No. | Rule title | State effective date | Final rule citation, date | Comments
R307-101. General Requirements
R307-101-1 | Foreward | 11/8/2012 | 81 FR 4959, 1/29/16
R307-101-2 | Definitions | 2/1/2013 | 81 FR 9343, 2/25/16 | Includes nonsignificant change on 7/9/2013.
R307-101-3 | Version of Code of Federal Regulations Incorporated by Reference | 8/7/2014 | 81 FR 4957, 1/29/16
R307-102. General Requirements: Broadly Applicable Requirements
R307-102 | General Requirements: Broadly Applicable Requirements | 11/8/2012 | 81 FR 4959, 1/29/16
R307-105. General Requirements: Emergency Controls
R307-105-01 | Air Pollution Emergency Episodes | 9/15/1998 | 71 FR 7679, 2/14/06
R307-105-02 | Emergency Actions | 9/15/1998 | 71 FR 7679, 2/14/06
R307-107. General Requirements: Breakdowns
R307-107 | General Requirements: Breakdowns | 7/31/2012 | 79 FR 7067, 2/6/14
R307-110. General Requirements: State Implementation Plan
R307-110-01 | Incorporation by Reference | 12/6/2012 | 80 FR 54237, 9/9/15
R307-110-02 | Section I. Legal Authority | 9/15/1998 | 71 FR 7679, 2/14/06
R307-110-03 | Section II. Review of New and Modified Air Pollution Sources | 9/15/1998 | 71 FR 7679, 2/14/06
R307-110-04 | Section III. Source Surveillance | 9/15/1998 | 71 FR 7679, 2/14/06
R307-110-05 | Section IV. Ambient Air Monitoring Program | 9/15/1998 | 71 FR 7679, 2/14/06
R307-110-06 | Section V. Resources | 9/15/1998 | 71 FR 7679, 2/14/06
R307-110-07 | Section VI. Intergovernmental Cooperation | 9/15/1998 | 71 FR 7679, 2/14/06
R307-110-08 | Section VII. Prevention of Air Pollution Emergency Episodes | 9/15/1998 | 71 FR 7679, 2/14/06
R307-110-09 | Section VIII. Prevention of Significant Deterioration | 6/16/2006 | 76 FR 41712, 7/15/11
R307-110-10 | Section IX. Control Measures for Area and Point Sources, Part A, Fine Particulate Matter | 9/5/2002 | 67 FR 78181, 12/23/02
R307-110-11 | Section IX. Control Measures for Area and Point Sources, Part B, Sulfur Dioxide | 9/15/1998 | 71 FR 7679, 2/14/06
R307-110-12 | Section IX. Control Measures for Area and Point Sources, Part C, Carbon Monoxide | 12/2/2004 | 70 FR 44055, 8/1/05 | Only includes provisions incorporated from Section IX, Parts C.6 (Provo), C.7 (Salt Lake City), and Part C.8 (Ogden).
R307-110-13 | Section IX. Control Measures for Area and Point Sources, Part D. Ozone | 5/2/2007 | 73 FR 5122, 9/2/08
R307-110-14 | Section IX. Control Measures for Area and Point Sources, Part E, Nitrogen Dioxide | 9/15/1998 | 71 FR 7679, 2/14/06
R307-110-15 | Section IX. Control Measures for Area and Point Sources, Part F, Lead | 9/15/1998 | 71 FR 7679, 2/14/06
R307-110-16 | Section IX. Control Measures for Area and Point Sources, Part G, Flouride | 9/15/1998 | 79 FR 11325, 2/28/14
R307-110-17 | Section IX. Control Measures for Area and Point Sources, Part H, Emissions Limits | 9/5/2002 | 67 FR 78181, 12/23/02
R307-110-19 | Section XI. Other Control Measures for Mobile Sources | 9/15/1998 | 71 FR 7679, 2/14/06
R307-110-20 | Section XII. Transportation Conformity Consultation | 5/2/2007 | 73 FR 51222, 9/2/08
R307-110-21 | Section XIII. Analysis of Plan Impact | 5/2/2007 | 73 FR 51222, 9/2/08
R307-110-22 | Section XIV. Comprehensive Emission Inventory | 9/18/1998 | 71 FR 7679, 2/14/06
R307-110-23 | Section XV. Utah Code Title 19, Chapter 2, Air Conservation Act | 9/15/1998 | 71 FR 7679, 2/14/06
R307-110-24 | Section XVI. Public Notification | 9/15/1998 | 71 FR 7679, 2/14/06
R307-110-25 | Section XVII. Visibility Protection | 9/15/1998 | 71 FR 7679, 2/14/06
R307-110-26 | Section XVIII. Demonstration of GEP Stack Height | 9/15/1998 | 71 FR 7679, 2/14/06
R307-110-27 | Section XIX. Small Business Assistance Program | 9/15/1998 | 71 FR 7679, 2/14/06
R307-110-30 | Section XXII. General Conformity | 9/15/1998 | 71 FR 7679, 2/14/06
R307-110-31 | Section X. Vehicle Inspection and Maintenance Program, Part A, General Requirements and Applicability | 12/6/2012 | 80 FR 54237, 9/9/15
R307-110-32 | Section X. Vehicle Inspection and Maintenance Program, Part B, Davis County | 9/15/1998 | 71 FR 7679, 2/14/06
R307-110-33 | Section X. Vehicle Inspection and Maintenance Programs, Part C, Salt Lake County | 10/7/2004 | 70 FR 44055, 8/1/05
R307-110-34 | Section X. Vehicle Inspection and Maintenance Program, Part D, Utah County | 5/18/2004 | 70 FR 66264, 11/2/05
R307-110-35 | Section X. Vehicle Inspection and Maintenance Program, Part E, Weber County | 11/4/2004 | 70 FR 52467, 9/14/05
R307-110-36 | Section X. Vehicle Inspection and Maintenance Program, Part F, Cache County | 11/7/2013 | 80 FR 54237, 9/9/15
R307-110-37 | Section XXIII. Interstate Transport | 12/6/2012 | 81 FR 4959, 1/29/16
R307-115. General Conformity
R307-115-01 | Determining Conformity | 2/8/2008 | 73 FR 51222, 9/2/08
R307-130. General Penalty Policy
R307-130-01 | Scope | 9/15/1998 | 71 FR 7679, 2/14/06
R307-130-02 | Categories | 9/15/1998 | 71 FR 7679, 2/14/06
R307-130-03 | Adjustments | 9/15/1998 | 71 FR 7679, 2/14/06
R307-130-04 | Options | 7/13/2007 | 73 FR 16543, 3/28/08
R307-150. Emission Inventories
R307-150-01 | Purpose and General Requirements | 12/31/2003 | 77 FR 74355, 12/14/12
R307-150-02 | Definitions | 12/31/2003 | 77 FR 74355, 12/14/12
R307-150-03 | Applicability | 12/31/2003 | 77 FR 74355, 12/14/12
R307-150-04 | Sulfur Dioxide Milestone Inventory Requirements | 9/4/2008 | 77 FR 74355, 12/14/12
R307-150-05 | Sources Identified in R307-150-3(2), Large Major Source Inventory Requirements | 12/31/2003 | 77 FR 74355, 12/14/12
R307-150-06 | Sources Identified in R307-150-3(3) | 12/31/2003 | 77 FR 74355, 12/14/12
R307-150-07 | Sources Identified in R307-150-3(4), Other Part 70 Sources | 12/31/2003 | 77 FR 74355, 12/14/12
R307-150-08 | Exempted Hazardous Air Pollutants | 12/31/2003 | 77 FR 74355, 12/14/12
R307-165. Emission Testing
R307-165 | Emission Testing | 9/15/1998 | 71 FR 7679, 2/14/06
R307-170. Continuous Emission Monitoring Program
R307-170-01 | Purpose | 4/1/1999 | 68 FR 26210, 5/15/03
R307-170-02 | Authority | 4/1/1999 | 68 FR 26210, 5/15/03
R307-170-03 | Applicability | 4/1/1999 | 68 FR 26210, 5/15/03
R307-170-04 | Definitions | 1/5/2006 | 71 FR 64125, 11/1/06
R307-170-05 | General Requirements | 1/5/2006 | 71 FR 64125, 11/1/06
R307-170-06 | Minimum Monitoring Requirements for Specific Sources | 4/1/1999 | 68 FR 26210, 5/15/03
R307-170-07 | Performance Specification Audits | 2/8/2008 | 73 FR 51222, 9/2/08
R307-170-08 | Recordkeeping | 4/1/1999 | 68 FR 26210, 5/15/03
R307-170-09 | State Electronic Data Report | 1/5/2006 | 71 FR 64125, 11/1/06
R307-201. Emission Standards: General Emission Standards
R307-201 | Emission Standards: General Emission Standards | 9/15/1998 | 71 FR 7679, 2/14/06
R307-202. Emission Standards: General Burning
R307-202 | Emission Standards: General Burning | 9/15/1998 | 71 FR 7679, 2/14/06
R307-203. Emission Standards: Sulfur Content of Fuels
R307-203 | Emission Standards: Sulfur Content of Fuels | 9/15/1998 | 71 FR 7679, 2/14/06
R307-204. Emission Standards: Smoke Management
R307-204-01 | Purpose and Goals | 12/31/2003 | 78 FR 4071, 1/18/13
R307-204-02 | Applicability | 12/31/2003 | 78 FR 4071, 1/18/13
R307-204-03 | Definitions | 7/7/2011 | 78 FR 4071, 1/18/13
R307-204-04 | General Requirements | 4/7/2006 | 78 FR 4071, 1/18/13
R307-204-05 | Burn Schedule | 7/7/2011 | 78 FR 4071, 1/18/13
R307-204-06 | Small Prescribed Fires (de minimis) | 7/7/2011 | 78 FR 4071, 1/18/13
R307-204-07 | Small Prescribed Pile Fires (de minimis) | 7/7/2011 | 78 FR 4071, 1/18/13
R307-204-08 | Large Prescribed Fires | 7/7/2011 | 78 FR 4071, 1/18/13
R307-204-09 | Large Prescribed Pile Fires | 7/7/2011 | 78 FR 4071, 1/18/13
R307-204-10 | Requirements for Wildland Fire Use Events | 7/7/2011 | 78 FR 4071, 1/18/13
R307-206. Emission Standards: Abrasive Blasting
R307-206 | Emission Standards: Abrasive Blasting | 9/15/1998 | 71 FR 7679, 2/14/06
R307-221. Emission Standards: Emission Controls for Existing Municipal Solid Waste Landfills
R307-221-01 | Purpose and Applicability | 1/7/1999 | 74 FR 1899, 1/14/09
R307-250. Western Backstop Sulfur Dioxide Trading Program
R307-250-01 | Purpose | 12/31/2003 | 77 FR 74355, 12/14/12
R307-250-02 | Definitions | 11/10/2008 | 77 FR 74355, 12/14/12
R307-250-03 | WEB Trading Program Trigger | 12/31/2003 | 77 FR 74355, 12/14/12
R307-250-04 | WEB Trading Program Applicability | 11/10/2008 | 77 FR 74355, 12/14/12
R307-250-05 | Account Representative for WEB Sources | 11/10/2008 | 77 FR 74355, 12/14/12
R307-250-06 | Registration | 11/10/2008 | 77 FR 74355, 12/14/12
R307-250-07 | Allowance Allocations | 11/10/2008 | 77 FR 74355, 12/14/12
R307-250-08 | Establishment of Accounts | 11/10/2008 | 77 FR 74355, 12/14/12
R307-250-09 | Monitoring, Recordkeeping and Reporting | 11/10/2008 | 77 FR 74355, 12/14/12
R307-250-10 | Allowance Transfers | 12/31/2003 | 77 FR 74355, 12/14/12
R307-250-11 | Use of Allowances from a Previous Year | 12/31/2003 | 77 FR 74355, 12/14/12
R307-250-12 | Compliance | 11/10/2008 | 77 FR 74355, 12/14/12
R307-250-13 | Special Penalty Provisions for the 2018 Milestone | 12/31/2003 | 77 FR 74355, 12/14/12
R307-301. Utah and Weber Counties: Oxygenated Gasoline Program
R307-301-3 | Average Oxygen Content Standard | 9/10/2001 | 67 FR 59165, 9/20/02
R307-302. Davis, Salt Lake, and Utah Counties: Residential Fireplaces and Stoves
R307-302-01 | Definitions | 9/15/1998 | 71 FR 7679, 2/14/06
R307-302-02 | No-Burn Periods for PM10 | 9/15/1998 | 71 FR 7679, 2/14/06 | Except R307-302-2(4).
R307-302-03 | No-Burn Periods for Carbon Monoxide | 9/15/1998 | 70 FR 66264, 11/2/05
R307-302-04 | Violations | 9/15/1998 | 70 FR 66264, 11/2/05
R307-303. Commercial Cooking
R307-303 | Commercial Cooking | 4/10/2013 | 81 FR 9343, 2/25/16
R307-305. Davis, Salt Lake, and Utah Counties and Ogden City, and Nonattainment Areas for PM10: Particulates
R307-305 | Davis, Salt Lake, and Utah Counties and Ogden City, and Nonattainment Areas for PM10: Particulates | 9/15/1998 | 71 FR 7679, 2/14/06
R307-307. Road Salting and Sanding
R307-307 | Road Salting and Sanding | 2/1/2013 | 81 FR 9343, 2/25/16
R307-310. Salt Lake County: Trading of Emission Budgets for Transportation Conformity
R307-310-01 | Purpose | 5/13/2002 | 67 FR 44065, 7/1/02
R307-310-02 | Definitions | 2/8/2008 | 73 FR 51222, 9/2/08
R307-310-03 | Applicability | 5/13/2002 | 67 FR 44065, 7/1/02
R307-311. Utah County: Trading of Emission Budgets for Transportation Conformity
R307-311 | Utah County: Trading of Emission Budgets for Transportation Conformity | 3/5/2015 | 80 FR 28193, 5/18/15
R307-312. Aggregate Processing Operations for PM2.5; Nonattainment Areas
R307-312 | Aggregate Processing Operations for PM2.5 Nonattainment Areas | 2/1/2013 | 81 FR 9343, 2/25/16 | Except R307-312-5(2)(a) which is conditionally approved through February 25, 2017.
R307-312-5(2)(a) | R307-312-5(2)(a) | 2/1/2013 | 81 FR 9343, 2/25/16 | Conditionally approved through February 25, 2017.
R307-325. Ozone Nonattainment and Maintenance Areas: General Requirements
R307-325 | Ozone Nonattainment and Maintenance Areas: General Requirements | 3/9/2007 | 78 FR 59242, 9/26/13
R307-326. Ozone Nonattainment and Maintenance Areas: Control of Hydrocarbon Emissions in Petroleum Refineries
R307-326 | Ozone Nonattainment and Maintenance Areas: Control of Hydrocarbon Emissions in Petroleum Refineries | 3/9/2007 | 78 FR 59242, 9/26/13
R307-327. Ozone Nonattainment and Maintenance Areas: Petroleum Liquid Storage
R307-327 | Ozone Nonattainment and Maintenance Areas: Petroleum Liquid Storage | 3/9/2007 | 78 FR 59242, 9/26/13
R307-328. Ozone Nonattainment and Maintenance Areas and Utah and Weber Counties: Gasoline Transfer and Storage
R307-328 | Ozone Nonattainment and Maintenance Areas and Utah and Weber Counties: Gasoline Transfer and Storage | 6/7/2011 | 81 FR 9343, 2/25/16 | Except R307-328-4(6) which has been conditionally approved through February 25, 2017.
R307-328-4(6) | R307-328-4(6) | 6/7/2011 | 81 FR 9343, 2/25/16 | Provision is conditionally approved through February 25, 2017.
R307-335. Degreasing and Solvent Cleaning Operations
R307-335 | Degreasing and Solvent Cleaning Operations | 1/1/2013 | 81 FR 9343, 2/25/16
R307-340. Ozone Nonattainment and Maintenance Areas: Surface Coating Processes
R307-340 | Ozone Nonattainment and Maintenance Areas: Surface Coating Processes | 3/9/2007 | 78 FR 59242, 9/26/13
R307-341. Ozone Nonattainment and Maintenance Areas: Cutback Asphalt
R307-341 | Ozone Nonattainment and Maintenance Areas: Cutback Asphalt | 1/16/2007 | 78 FR 59242, 9/26/13
R307-342. Adhesives and Sealants
R307-342 | Adhesives and Sealants | 8/1/2013 | 81 FR 9343, 2/25/16
R307-343. Emissions Standards for Wood Furniture Manufacturing Operations
R307-343 | Emissions Standards for Wood Furniture Manufacturing Operations | 5/1/2013 | 81 FR 9343, 2/25/16
R307-344. Paper, Film, and Foil Coatings
R307-344 | Paper, Film, and Foil Coatings | 2/1/2013 | 81 FR 9343, 2/25/16
R307-345. Fabric and Vinyl Coatings
R307-345 | Fabric and Vinyl Coatings | 2/1/2013 | 81 FR 9343, 2/25/16
R307-346. Metal Furniture and Surface Coatings
R307-346 | Metal Furniture Surface Coatings | 2/1/2013 | 81 FR 9343, 2/25/16
R307-347. Large Appliance Surface Coatings
R307-347 | Large Appliance Surface Coatings | 2/1/2013 | 81 FR 9343, 2/25/16
R307-348. Magnet Wire Coatings
R307-348 | Magnet Wire Coatings | 2/1/2013 | 81 FR 9343, 2/25/16
R307-349. Flat Wood Panel Coatings
R307-349 | Flat Wood Panel Coatings | 2/1/2013 | 81 FR 9343, 2/25/16
R307-350. Miscellaneous Metal Parts and Products Coatings
R307-350 | Miscellaneous Metal Parts and Products Coatings | 2/3/2013 | 81 FR 9343, 2/25/16
R307-351. Graphic Arts
R307-351 | Graphic Arts | 2/1/2013 | 81 FR 9343, 2/25/16 | Except R307-351-2 and R307-351-4.
R307-351-2 | Applicability | 10/8/2014 | 81 FR 9343, 2/25/16
R307-351-4 | Standards for Rotogravure, Flexographic, and Specialist Pring Operations | 2/15/2013 | 81 FR 9343, 2/25/16
R307-352. Metal Container, Closure, and Coil Coatings
R307-352 | Metal Container, Closure, and Coil Coatings | 2/1/2013 | 81 FR 9343, 2/25/16
R307-353. Plastic Parts Coatings
R307-353 | Plastic Parts Coatings | 5/1/2013 | 81 FR 9343, 2/25/16
R307-354. Automotive Refinishing Coatings
R307-354 | Automotive Refinishing Coatings | 2/1/2013 | 81 FR 9343, 2/25/16
R307-355. Control of Emissions From Aerospace Manufacture and Rework Facilities
R307-355 | Control of Emissions from Aerospace Manufacture and Rework Facilities | 2/1/2013 | 81 FR 9343, 2/25/16
R307-355-5 | Emission standards | 2/15/2013 | 81 FR 9343, 2/25/16
R307-356. Appliance Pilot Light
R307-356 | Appliance Pilot Light | 1/1/2013 | 81 FR 9343, 2/25/16
R307-357. Consumer Products
R307-357 | Consumer Products | 8/1/2013 | 81 FR 9343, 2/25/16 | Except R307-357-4.
R307-357-4 | Standards | 5/8/2014 | 81 FR 9343, 2/25/16
R307-361. Architectural Coatings
R307-361 | Architectural Coatings | 10/31/2013 | 81 FR 9343, 2/25/16
R307-401. Permit: New and Modified Sources
R307-401-01 | Purpose | 6/16/2006 | 79 FR 7072, 2/6/14
R307-401-02 | Definitions | 6/16/2006 | 79 FR 7072, 2/6/14
R307-401-03 | Applicability | 6/16/2006 | 79 FR 7072, 2/6/14
R307-401-04 | General Requirements | 6/16/2006 | 79 FR 7072, 2/6/14
R307-401-05 | Notice of Intent | 6/16/2006 | 79 FR 7072, 2/6/14
R307-401-06 | Review Period | 6/16/2006 | 79 FR 7072, 2/6/14
R307-401-07 | Public Notice | 10/3/2013 | 81 FR 4959, 1/29/16
R307-401-08 | Approval Order | 6/16/2006 | 79 FR 7072, 2/6/14
R307-401-09 | Small Source Exemption | 1/1/2011 | 79 FR 7070, 2/6/14
R307-401-10 | Source Category Exemptions | 6/16/2006 | 79 FR 7072, 2/6/14
R307-401-11 | Replacement-in-Kind Equipment | 6/16/2006 | 79 FR 7072, 2/6/14
R307-401-13 | Plantwide Applicability Limits | 6/16/2006 | 79 FR 7072, 2/6/14
R307-401-14 | Used Oil Fuel Burned for Energy Recovery | 2/8/2008 | 79 FR 27190, 5/13/14
R307-401-15 | Air Strippers and Soil Venting Projects | 2/7/2013 | 81 FR 4957, 1/29/16
R307-401-16 | De minimis Emissions From Soil Aeration Projects | 6/16/2006 | 79 FR 27190, 5/13/14
R307-401-17 | Temporary Relocation | 6/16/2006 | 79 FR 7072, 2/6/14
R307-401-18 | Eighteen Month Review | 6/16/2006 | 79 FR 7072, 2/6/14
R307-401-19 | Analysis of Alternatives | 6/16/2006 | 79 FR 7072, 2/6/14
R307-401-20 | Relaxation of Limitations | 6/16/2006 | 79 FR 7072, 2/6/14
R307-403. Permits: New and Modified Sources in Nonattainment Areas and Maintenance Areas
R307-403 | Permits: New and Modified Sources in Nonattainment Areas and Maintenance Areas | 9/15/1998 | 71 FR 7679, 2/14/06
R307-405. Permits: Major Sources in Attainment or Unclassified Areas (PSD)
R307-405-01 | Purpose | 9/7/2007 | 76 FR 41712, 7/15/11
R307-405-02 | Applicability | 2/5/2009 | 81 FR 4957, 1/29/16
R307-405-03 | Definitions | 1/1/2011 | 79 FR 7070, 2/6/14 | Except (2)(a), (b), (f), (5), and (6).
R307-405-04 | Area Designations | 9/7/2007 | 76 FR 41712, 7/15/11
R307-405-05 | Area Redesignation | 9/7/2007 | 76 FR 41712, 7/15/11
R307-405-06 | Ambient Air Increments | 9/7/2007 | 76 FR 41712, 7/15/11
R307-405-07 | Ambient Air Ceilings | 9/7/2007 | 76 FR 41712, 7/15/11
R307-405-08 | Exclusions from Increment Consumption | 9/7/2007 | 76 FR 41712, 7/15/11
R307-405-09 | Stack Heights | 9/7/2007 | 76 FR 41712, 7/15/11
R307-405-10 | Exemptions | 9/7/2007 | 76 FR 41712, 7/15/11
R307-405-11 | Control Technology Review | 9/7/2007 | 76 FR 41712, 7/15/11
R307-405-12 | Source Impact Analysis | 9/7/2007 | 76 FR 41712, 7/15/11
R307-405-13 | Air Quality Models | 9/7/2007 | 76 FR 41712, 7/15/11
R307-405-14 | Air Quality Analysis | 9/7/2007 | 76 FR 41712, 7/15/11
R307-405-15 | Source Information | 9/7/2007 | 76 FR 41712, 7/15/11
R307-405-16 | Additional Impact Analysis | 9/7/2007 | 76 FR 41712, 7/15/11
R307-405-17 | Sources Impacting Federal Class I Areas: Additional Rquirements | 9/7/2007 | 76 FR 41712, 7/15/11
R307-405-18 | Public Participation | 9/7/2007 | 76 FR 41712, 7/15/11
R307-405-19 | Source Obligation | 9/7/2007 | 76 FR 41712, 7/15/11
R307-405-20 | Innovative Control Technology | 9/7/2007 | 76 FR 41712, 7/15/11
R307-405-21 | Actuals PALs | 9/7/2007 | 76 FR 41712, 7/15/11
R307-405-22 | Banking of Emission Offset Credit in PSD Areas | 9/7/2007 | 76 FR 41712, 7/15/11
R307-406. Visibility
R307-406 | Visibility | 9/15/1998 | 71 FR 7679, 2/14/06
R307-410. Permits: Emissions Impact Analysis
R307-410-01 | Purpose | 6/6/2006 | 79 FR 7072, 2/6/14
R307-410-02 | Definitions | 6/6/2006 | 79 FR 7072, 2/6/14
R307-410-03 | Use of Dispersion Models | 6/6/2006 | 79 FR 7072, 2/6/14
R307-410-04 | Modeling of Criteria Pollutant Impacts in Attainment Areas | 6/6/2006 | 79 FR 7072, 2/6/14
R307-410-06 | Stack Heights and Dispersion Techniques | 6/6/2006 | 79 FR 7072, 2/6/14
R307-413. Permits: Exemptions and Special Provisions
[R307-7] | Exemption from Notice of Intent Requirements for Used Oil Fuel Burned for Energy Recovery | 11/15/1996 | 67 FR 35442, 5/20/02 | Recodification not approved.
R307-413-7 | Exemption from Notice of Intent Requirements for Used Oil Fuel Burned for Energy Recovery | 9/15/1998 | 71 FR 7679, 2/14/06
R307-414. Permits: Fees for Approval Orders
R307-414 | Permits: Fees for Approval Orders | 12/17/2000 | 72 FR 4641, 2/1/07

(d) EPA-approved source-specific requirements.

Rule title | State effective date | Final rule citation, date | Comments
Hill Air Force Base
Ozone NAAQS Approval Orders:
Air Quality Approval Order for Remodeling BX Service Station (7/12/1979) | 3/4/1997 | 62 FR 38213, 7/17/1997
Approval Order for Hydrazine Exhaust Incinerator, Davis County (2/5/1985) | 3/4/1997 | 62 FR 38213, 7/17/1997
Approval Order for Industrial Wastewater Treatment Facility, Davis County (2/20/1986) | 3/4/1997 | 62 FR 38213, 7/17/1997
Approval Order for Paint Booth, HVAC Modification, Standby Generators, and Fuel Storage Tanks, Davis County (7/18/1983) | 3/4/1997 | 62 FR 38213, 7/17/1997
BAQE-026-88, Approval Order for Paint Spray Booth in Building 1913 and Solvent Spray Booth in Building 1915, Davis County (1/20/1988) | 3/4/1997 | 62 FR 38213, 7/17/1997
BAQE-039-91, Approval Order for Building 1701—Dip Tank, Bake Oven, Paint Booths, Davis County (2/7/1991) | 3/4/1997 | 62 FR 38213, 7/17/1997
BAQE-353-88, Approval Order for Two Cold Solvent Cleaning Tanks in Building 2013, Weber County (7/21/1988) | 3/4/1997 | 62 FR 38213, 7/17/1997
BAQE-525-88, Approval Order for Structural Repair and Maintenance Facility, Davis County (10/13/1988) | 3/4/1997 | 62 FR 38213, 7/17/1997
BAQE-669-88, Approval Order for Paint Distillation Unit in Building 514, Davis County (12/20/1988) | 3/4/1997 | 62 FR 38213, 7/17/1997
Construction Approval Order (6/27/1978) | 3/4/1997 | 62 FR 38213, 7/17/1997
DAQE-0103-93, Modified Approval Order for Aircraft Purge System Near Building 287, Davis County (2/11/1993) | 3/4/1997 | 62 FR 38213, 7/17/1997
DAQE-067-95, Modified Approval Order to DAQE-1006-94, Paint Booth Consolidation (1/31/1995) | 3/4/1997 | 62 FR 38213, 7/17/1997
DAQE-068-95, Support Document for Approval Order DAQE-067-95 (1/30/1995) | 3/4/1997 | 62 FR 38213, 7/17/1997
DAQE-0719-93, Approval Order for Air Permit for Emergency Power Generators, Davis County (8/20/1993) | 3/4/1997 | 62 FR 38213, 7/17/1997
DAQE-0752-93, Modified Approval Order for: A. Replacement Boilers in Buildings 1624, 1904, 2104, 2203; B. Paint Spray Booth in Building 751; C. Carbon Brake Coating Process in Building 507; Davis County (8/27/1993) | 3/4/1997 | 62 FR 38213, 7/17/1997
DAQE-1134-95, Approval Order for Setup Chemical Milling Process Line in Bldg 238, Davis County (12/7/1995) | 3/4/1997 | 62 FR 38213, 7/17/1997
DAQE-1171-92, Approval Order for Emergency Generators and Media Blast Booth, Davis County (1/4/1993) | 3/4/1997 | 62 FR 38213, 7/17/1997
DAQE-163-96, Approval Order for Medium Pressure Water & Chemical Paint Stripping of Aircraft, Davis County (2/9/1996) | 3/4/1997 | 62 FR 38213, 7/17/1997
DAQE-167-92, Approval Order for JP-4 Tank Throughput Limitations (2/19/1992) | 3/4/1997 | 62 FR 38213, 7/17/1997
DAQE-403-95, Approval Order for Construction of Two Boilers Each in Buildings 1590 and 1703, Davis County (5/8/1995) | 3/4/1997 | 62 FR 38213, 7/17/1997
DAQE-416-92, Approval Order for Industrial Wastewater Treatment Plant Sludge Dryers, Building 577, Davis County (4/28/1992) | 3/4/1997 | 62 FR 38213, 7/17/1997
DAQE-775-95, Approval Order to Modify AO for Engine Test Facilities, Davis County (8/30/1995) | 3/4/1997 | 62 FR 38213, 7/17/1997
DAQE-824-94, Approval Order For Used Oil Burner/Boiler Permit Modification, Davis County (9/29/1994) | 3/4/1997 | 62 FR 38213, 7/17/1997
DAQE-860-95, Your Letter of 6 September 1995, Phase II Vapor Recovery at Building 454 (9/20/1995) | 3/4/1997 | 62 FR 38213, 7/17/1997
DAQE-894-91, Approval Order; Wording Change to Approval Order Dated June 22, 1988, Davis County (11/25/1991) | 3/4/1997 | 62 FR 38213, 7/17/1997
DAQE-915-94, Change of Jet Fuel from JP-4 to JP-8 (10/18/1994) | 3/4/1997 | 62 FR 38213, 7/17/1997
Salt Lake County
Ozone NAAQS Approval Orders:
DAQE-0063-94, Pacificorp Gadsby Power Plant, Approval Order for SIP Change, Title V Major (2/3/1994) | 3/4/1997 | 62 FR 38213, 7/17/1997
DAQE-300-95, Olympia Sales Company, Approval Order Revised to Meet the Ozone Maintenance Plan, Salt Lake County, Toxic Major Title V Major (4/13/1995) | 3/4/1997 | 62 FR 38213, 7/17/1997
DAQE-433-94, Kennecott Utah Copper—Utah Power Plant, Approval Order for RACT Analysis, Salt Lake County, Title V Major (5/27/1994) | 3/4/1997 | 62 FR 38213, 7/17/1997

(e) EPA-approved nonregulatory provisions.

Rule title | State effective date | Final rule citation, date | Comments
Section I. Legal Authority | 11/12/1993 | 68 FR 37744, 6/25/2003 |
Section II. Review of New and Modified Air Pollution Sources | 11/12/1993 | 68 FR 37744, 6/25/2003 |
Section III. Source Surveillance | 1/1/2003 | 68 FR 37744, 6/25/2003 |
IV. Ambient Air Monitoring Program
Section IV.A. Introduction | 11/12/1993 | 68 FR 37744, 6/25/2003 |
Section IV.B. Air Quality Surveillance Network Design | 11/12/1993 | 68 FR 37744, 6/25/2003 |
Section IV.C. Network Description | 11/12/1993 | 68 FR 37744, 6/25/2003 |
Section IV.D. Data Reporting | 11/12/1993 | 68 FR 37744, 6/25/2003 |
Section IV.E. Episode Monitoring | 11/12/1993 | 68 FR 37744, 6/25/2003 |
Section IV.F. Annual Review | 11/12/1993 | 68 FR 37744, 6/25/2003 |
Section V. Resources | 11/12/1993 | 68 FR 37744, 6/25/2003 |
Section VI. Intergovernmental Cooperation | 11/12/1993 | 68 FR 37744, 6/25/2003 |
Section VII. Prevention of Air Pollution Emergency Episodes | 1/1/2003 | 68 FR 37744, 6/25/2003 |
Section VIII. Prevention of Significant Deterioration | 6/16/2006 | 76 FR 41712, 7/15/2011 |
IX. Control Measures for Area and Point Sources
Section IX.A.1. Fine Particulate Matter (PM10), Area Designation Background | 8/14/1991 | 59 FR 35036, 7/8/1994 |
Section IX.A.2. Fine Particulate Matter (PM10), PM10 Concentrations | 8/14/1991 | 59 FR 35036, 7/8/1994 |
Section IX.A.3. Fine Particulate Matter (PM10), Utah County | 9/5/2002 | 67 FR 78181, 12/23/2002 |
Section IX.A.4. Fine Particulate Matter (PM10), Salt Lake County—Magna | 8/14/1991 | 59 FR 35036, 7/8/1994 |
Section IX.A.5. Fine Particulate Matter (PM10), Salt Lake Nonattainment Area | 8/14/1991 | 59 FR 35036, 7/8/1994 |
Section IX.A.6. Fine Particulate Matter (PM10), Control Strategies | 9/5/2002 | 67 FR 78181, 12/23/2002 |
Section IX.A.7. Fine Particulate Matter (PM10), Maintenance | 9/5/2002 | 67 FR 78181, 12/23/2002 |
Section IX.A.8. Fine Particulate Matter (PM10), Contingency Measures | 9/5/2002 | 67 FR 78181, 12/23/2002 |
Section IX.A.9. Fine Particulate Matter (PM10), Annual Average | 9/5/2002 | 67 FR 78181, 12/23/2002 |
Section IX.A.10. Fine Particulate Matter (PM10), Transportation Conformity | 9/5/2002 | 67 FR 78181, 12/23/2002 |
Section IX.A. Fine Particulate Matter (PM10), Appendix A—Emission Limitations and Operating Practices (Davis and Salt Lake Counties) | 9/5/2002 | 67 FR 78181, 12/23/2002 |
Section IX.B. Sulfur Dioxide | 1/1/2003 | 68 FR 37744, 6/25/2003 |
Section IX.C. Carbon Monoxide | 2/25/2000 | 68 FR 37744, 6/25/2003 |
Section IX.C.6. Carbon Monoxide, Provo | 5/18/2004 | 70 FR 66264, 11/2/2005 |
Section IX.C.7. Carbon Monoxide Maintenance Provision for Salt Lake City | 12/2/2004 | 70 FR 44055, 8/1/2005 |
Section IX.C.8. Carbon Monoxide Maintenance Provisions for Ogden | 1/4/2005 | 70 FR 54267, 9/14/2005 |
Section IX.D. 8-Hour Ozone Maintenance Provisions for Salt Lake and Davis Counties | 1/3/2007 | 78 FR 59242, 9/26/2013 | With exceptions identified in document.
Section IX.E. Nitrogen Dioxide | 2/25/2000 | 68 FR 37744, 6/25/2003 |
Section IX.F. Lead | 2/25/2000 | 68 FR 37744, 6/25/2003 |
Section IX.G. Fluoride | 2/25/2000 | 68 FR 37744, 6/25/2003 |
Section IX.H.1. Fine Particulate Matter (PM10), Emission Limits and Operating Practices (Utah County) | 9/5/2002 | 67 FR 78181, 12/23/2002 |
X. Vehicle Inspection and Maintenance Program
Section X.A. General Requirements and Applicability | 12/5/2012 | 80 FR 54237, 9/9/2015 |
Section X.B. Davis County | 2/14/1997 | 62 FR 38213, 7/17/1997 |
Section X.C. Salt Lake County | 10/7/2004 | 70 FR 44055, 8/1/2005 |
Section X.D. Utah County | 5/18/2004 | 70 FR 66264, 11/2/2005 |
Section X.E. Weber County | 11/4/2004 | 70 FR 54267, 9/14/2005 |
Section X.F. Cache County | 11/6/2013 | 80 FR 54237, 9/9/2015 |
Section XI. Other Control Measures for Mobile Sources | 11/12/1993 | 68 FR 37744, 6/25/2003 |
Section XII. Transportation Conformity Consultation | 5/2/2007 | 73 FR 51222, 9/2/2008 |
Section XIII. Analysis of Plan Impact | 11/12/1993 | 68 FR 37744, 6/25/2003 |
Section XIV. Emission Inventory Development | 2/25/2000 | 68 FR 37744, 6/25/2003 |
Section XV. Title 19, Chapter 2 Utah Code Annotated, 1993 | 11/12/1993 | 68 FR 37744, 6/25/2003 |
Section XVI. Public Notification | 11/12/1993 | 68 FR 37744, 6/25/2003 |
XVII. Visibility Protection
Section XVII.A. Introduction | 2/25/2000 | 68 FR 37744, 6/25/2003 |
Section XVII.B. Background | 4/12/1993 | 68 FR 37744, 6/25/2003 |
Section XVII.C. Visibility Protection | 4/12/1993 | 68 FR 37744, 6/25/2003 |
Section XVII.D. Visibility Monitoring | 2/25/2000 | 68 FR 37744, 6/25/2003 |
Section XVII.E. New or Modified Source Analysis of Visibility Impact | 2/25/2000 | 68 FR 37744, 6/25/2003 |
Section XVII.F. Existing Source Visibility Impact and BART | 4/12/1993 | 68 FR 37744, 6/25/2003 |
Section XVII.G. Regional Haze | 4/12/1993 | 68 FR 37744, 6/25/2003 |
Section XVII.H. Long Term Plan to Show Progress Toward Improved Visibility | 4/12/1993 | 68 FR 37744, 6/25/2003 |
Section XVII.I. Visibility Progress Report | 4/12/1993 | 68 FR 37744, 6/25/2003 |
Section XVII.J. Policy of the Air Conservation Committee Concerning the Protection of Scenic Views Associated with Mandatory Class I Areas from Signficant Impairment for Visibility | 4/12/1993 | 68 FR 37744, 6/25/2003 |
Section XVIII. Demonstration of GEP Stack Height | 2/25/2000 | 68 FR 37744, 6/25/2003 |
Section XIX. Small Business Assistance Program | 11/12/1993 | 68 FR 37744, 6/25/2003 |
Section XX.G. Long-Term Strategy for Fire Programs | 4/7/2011 | 78 FR 4071, 1/18/2013 |
Section XXII. General Conformity | 1/1/2003 | 68 FR 37744, 6/25/2003 |
Section XXIII. Interstate Transport | 2/9/2007 | 73 FR 16543, 3/28/2008 |
Maintenance Plans
Ogden Carbon Monoxide (CO) Maintenance Plan Summary
Salt Lake and Davis County Ozone Maintenance Plan Summary
Salt Lake and Tooele Counties Sulfur Dioxide (SO2) Plan Summary
Salt Lake City Carbon Monoxide (CO) Maintenance Plan
Salt Lake County Particulate Matter (PM−10) Attainment Plan Summary
Utah County Particulate Matter (PM−10) Attainment Plan Summary

[FR Doc. 2016-14099 Filed 6-15-16; 8:45 am]

BILLING CODE 6560-50-P